NATIONAL ARCHIVES AND RECORDS ADMINISTRATION

Information Security Oversight Office

[NARA-2017-025]

Meeting of the National Industrial Security Program Policy Advisory Committee (NISPPAC)

AGENCY: National Archives and Records Administration (NARA).

ACTION: Notice of Advisory Committee meeting.

SUMMARY: In accordance with the Federal Advisory Committee Act (5 U.S.C. app 2) and implementing regulation 41 CFR 101-6, NARA announces the following committee meeting.

DATES: The meeting will be March 15, 2017, from 10:00 a.m. to 12:00 p.m. EST.

ADDRESSES: National Archives and Records Administration; 700 Pennsylvania Avenue NW.; Archivist's Reception Room, Room 105; Washington, DC 20408.

FOR FURTHER INFORMATION CONTACT: Robert Tringali, Program Analyst, by mail at ISOO, National Archives Building; 700 Pennsylvania Avenue NW.; Washington, DC 20408, by telephone number at (202) 357-5335, or by email at robert.tringali@nara.gov. Contact ISOO at ISOO@nara.gov and the NISPPAC at NISPPAC@nara.gov.

SUPPLEMENTARY INFORMATION: The purpose of this meeting is to discuss National Industrial Security Program policy matters. The meeting will be open to the public. However, due to space limitations and access procedures, you must submit the name and telephone number of individuals planning to attend to the Information Security Oversight Office (ISOO) no later than Friday, March 10, 2017. ISOO will provide additional instructions for accessing the meeting's location.

Patrice Little Murray,
Committee Management Officer.

[FR Doc. 2017-02151 Filed 1-31-17; 8:45 am]

BILLING CODE 7515-01-P